FEDERAL COMMUNICATIONS COMMISSION

47 CFR Part 73

[MB Docket No. 16-182; RM-11770; DA 16-1007]

Radio Broadcasting Services; Eagle Butte, South Dakota

AGENCY: Federal Communications Commission.

ACTION: Final rule.

SUMMARY: At the request of the Cheyenne River Sioux Tribe, the Audio Division amends the FM Table of Allotments, by allotting Channel 228C1 at Eagle Butte, South Dakota, as the first local Tribal-owned service. A staff engineering analysis indicates that Channel 228C1 can be allotted to Eagle Butte consistent with the minimum distance separation requirements of the Commission's rules with no site restriction. The reference coordinates are 45-01-32 NL and 101-14-22 WL.

DATES: Effective October 17, 2016.

FOR FURTHER INFORMATION CONTACT: Adrienne Y. Denysyk, Media Bureau, (202) 418-2700.

SUPPLEMENTARY INFORMATION: This is a synopsis of the Commission's Report and Order, MB Docket No. 16-182, adopted September 1, 2016, and released September 2, 2016. The full text of this Commission decision is available for inspection and copying during normal business hours in the FCC's Reference Information Center at Portals II, CY-A257, 445 12th Street SW., Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended].

2. Section 73.202(b), the Table of FM Allotments under South Dakota, is amended by adding Eagle Butte, Channel 228C1.

[FR Doc. 2016-22788 Filed 9-21-16; 8:45 am]

BILLING CODE 6712-01-P